DEPARTMENT OF HOUSING AND URBAN DEVELOPMENT

[Docket No. FR-4878-N-02]

Notice of Guidance to Federal Assistance Recipients Regarding Title VI Prohibition Against National Origin Discrimination Affecting Limited English Proficient Persons Extension of Public Comment Period

AGENCY: Office of the Assistant Secretary for Fair Housing and Equal Opportunity, HUD.

ACTION: Notice.

SUMMARY: On December 19, 2003, HUD published a proposed “Guidance to Federal Assistance Recipients Regarding Title VI Prohibition Against National Origin Discrimination Affecting Limited English Proficient Persons” (LEP Guidance) as required by Executive Order 13166, that addresses efforts recipients of federal financial assistance must make to serve persons with limited English proficiency. The proposed LEP Guidance solicited public comments for a period of 30 days, providing for a comment due date of January 20, 2004. Because of the significant public interest that the proposed rule has generated, HUD is extending the public comment period by an additional 14 days.

DATES: Comment Due Date: Comments on HUD's December 19, 2003, proposed LEP Guidance are due on or before February 5, 2004.

ADDRESSES: Interested persons are invited to submit comments regarding the proposed guidance to the Rules Docket Clerk, Office of General Counsel, Room 10276, Department of Housing and Urban Development, 451 Seventh Street, SW., Washington, DC 20410-0500. Communications should refer to the above docket number and title. Facsimile (FAX) comments are not acceptable. A copy of each communication submitted will be available for public inspection and copying between 7:30 a.m. and 5:30 p.m. weekdays at the above address.

FOR FURTHER INFORMATION CONTACT: Pamela D. Walsh, Director, Program Standards Division, Office of Fair Housing and Equal Opportunity, Department of Housing and Urban Development, Room 5226, U.S. Department of Housing and Urban Development, 451 Seventh Street, SW., Washington, DC 20410; telephone (202) 708-2904 (this is not a toll-free number). Hearing- or speech-impaired individuals may access the telephone number listed in this section through TTY by calling the toll-free Federal Information Relay Service at (800) 877-8339.

SUPPLEMENTARY INFORMATION: On December 19, 2003 (68 FR 70968), HUD published proposed “Guidance to Federal Assistance Recipients Regarding Title VI Prohibition Against National Origin Discrimination Affecting Limited English Proficient Persons.” HUD published this policy guidance to meet its responsibility under Executive Order 13166, which requires that each federal agency publish guidance to assist recipients of federal funds in meeting their responsibilities under Title VI of the Civil Rights Act of 1964. Under Title VI, recipients of federal financial assistance are required to ensure meaningful access to their programs and activities by persons with limited English proficiency. The Department of Justice reviewed and approved HUD's proposed LEP Guidance.

HUD's proposed LEP Guidance solicited public comments for a period of 30-days, providing for a comment due date of January 20, 2004. Due to the significant level of public interest that the proposed notice has generated, HUD has decided to extend the public comment due date by an additional 14 days. The new due date for comments is provided in the DATES section of this document, above. HUD hopes that the extended comment period will provide interested persons with the needed additional time to submit their comments, and will help to ensure that HUD's development of the final LEP Guidance is undertaken with a full appreciation of the public's views on this important matter. All public comments postmarked subsequent to January 20, 2004 (the original due date for public comments on the LEP Guidance) but before the new comment due date announced by this document, will be considered in the development of the final LEP Guidance.

Dated: January 20, 2004.
Karen A. Newton,
Deputy Assistant Secretary for Operations and Management.

[FR Doc. 04-1476 Filed 1-21-04; 8:45 am]

BILLING CODE 4210-28-P